DEPARTMENT OF ENERGY

Federal Energy Regulatory Commission

[Project No. 5362-021]

Kennebunk Light and Power District; Notice of Revised Procedural Schedule for Environmental Assessment for the Proposed Surrender of License

On March 31, 2021, and supplemented on April 8, 2021, and April 7 and 15, 2025, Kennebunk Light and Power District, licensee for the Lower Mousam Hydroelectric Project No. 5362, filed an application to surrender its license, pursuant to 18 CFR 6.1 of the Commission's regulations. The project is located on the Mousam River, in York County, Maine. The project does not occupy federal lands.

On January 15, 2025, Commission staff issued a notice of intent to prepare an Environmental Assessment (EA) to evaluate the effects of surrender of the project. The notice of intent identified a schedule for preparing the EA by April 30, 2025.

On March 27, 2025, the Commission requested additional information from the licensee regarding consultation with certain resource agencies on the surrender of the project. This information was filed on April 7, 2025. Commission staff is updating the procedural schedule for completing the EA as shown below. Further revisions to the schedule may be made as appropriate.

Issuance of EA October 2, 2025

Any questions regarding this notice may be directed to Diana Shannon at (202) 502-6136, or by email at diana.shannon@ferc.gov.

Dated: April 30, 2025.
Debbie-Anne A. Reese,
Secretary.

[FR Doc. 2025-07877 Filed 5-5-25; 8:45 am]

BILLING CODE 6717-01-P